DEPARTMENT OF HEALTH AND HUMAN SERVICES

Substance Abuse and Mental Health Services Administration

Notice of Modification/Clarification of Eligibility for the SAMHSA/HRSA Collaboration To Link Health Care for the Homeless Programs and Community Mental Health Agencies Grant Program

AGENCY: Center for Mental Health Services (CMHS), Substance Abuse and Mental Health Services Administration (SAMHSA), HHS.

ACTION: Notice of modification/clarification of eligibility the SAMHSA/HRSA Collaboration to Link Health Care for the Homeless Programs and Community Mental Health Agencies.

SUMMARY: This notice is to inform the public of a correction to the SAMHSA/CMHS grant announcement No. SM02-013, SAMHSA/HRSA Collaboration to Link Health Care for the Homeless Programs and Community Mental Health Agencies (Short Title: HCH/CMHA Collaboration Project). SAMHSA has made a correction to the eligibility requirement to include public community mental health facilities that are licensed, accredited, certified, or chartered by appropriate certification or credentialing bodies to provide mental health services. Check the Federal Register dated May 3, 2002, and/or the SAMHSA web site for notice of the grant announcement at http://www.samhsa.gov/.

The HCH/CMHA Collaboration Project foster collaborations between Health Care for the Homeless programs and community mental health agencies to increase the availability of mental health and primary care services for persons with serious mental illnesses who are homeless. Awards range from $150,000 to $200,000 in total costs.

Program Contact: For questions concerning this program, contact:

Pamela J. Fischer, Ph.D., Homeless Programs Branch, Suite 11C-05, 5600 Fishers Lane, Rockville, MD 20857, 301-443-4569, Fax 301-443-0256, E-mail: pfischer@samhsa.gov.

Dated: May 24, 2002.
Richard Kopanda,
Executive Officer, SAMHSA.

[FR Doc. 02-13738 Filed 5-30-02; 8:45 am]

BILLING CODE 4162-20-P